DEPARTMENT OF HOMELAND SECURITY

Coast Guard

[Docket No. USCG-2010-1130]

Notice of Public Meeting on the International Maritime Organization Guidelines for Exhaust Gas Cleaning Systems for Marine Engines To Comply with Annex VI to MARPOL 73/78

AGENCY: Coast Guard, DHS.

ACTION: Notice of meeting.

SUMMARY: The United States Coast Guard will conduct a public meeting on the International Maritime Organization guidelines for exhaust gas cleaning systems for marine engines in Washington, DC. The purpose of this meeting will be to collect information for updates to CG-543 policy letter 09-01 that provide guidance for exhaust gas cleaning systems under MARPOL Annex VI regulation 4.

DATES: This public meeting will be held for two days beginning at 9:30 a.m., Eastern Time, on Wednesday, January 19 and ending at 4 p.m., Eastern Time, on Thursday, January 20, 2011. This meeting is open to the public.

ADDRESSES: The public meeting will be held in Room 2501 of the United States Coast Guard Headquarters Transpoint building in Washington DC. The Transpoint building is located at 2100 Second Street, Southwest, in Washington, DC, approximately 1 mile from the Southwest-SEU Metro Station.

FOR FURTHER INFORMATION CONTACT: For additional information about this public meeting you may contact Mr. Wayne Lundy by telephone at 202-372-1379 or by e-mail at Wayne.M.Lundy@uscg.mil.

SUPPLEMENTARY INFORMATION: The purpose of this meeting is to discuss guidelines and accompanying washwater discharge criteria developed by the IMO for exhaust gas cleaning systems for marine engines to remove sulphur oxide emissions in order to comply with regulation 14 of Annex VI of the International Convention for the Prevention of Pollution from Ships (MARPOL 73/78).

On July 21, 2008, the Maritime Pollution Prevention Act of 2008, Public Law 110-280, was enacted. This legislation amended the Act to Prevent Pollution from Ships (APPS), 33 U.S.C. 1901-1915. APPS, which defines the MARPOL Protocol to include Annex VI, makes it unlawful to act in violation MARPOL Annex VI. See 33 U.S.C. 1901 and 1907. Working with other agencies, under 33 U.S.C. 1903, the Coast Guard is charged with administering and enforcing the MARPOL Protocol.

Agenda of Meeting

The public meeting will cover:

(1) Potential type approval process;

(2) Development of explicit test procedures;

(3) Inspection & verification of compliance;

(4) Consistency of the sludge from washwater;

(5) Proper disposal of sludge;

(6) Adequate reception facilities;

(7) Safety concerns;

(8) Training needs; and

(9) Recordkeeping.

Procedural

This meeting is open to the public. Please note that the public meeting has a limited number of seats and may close early if all business is finished. There will be audiovisual arrangements available for those interested in making presentations. Also, teleconferencing will be available. Those interested in making presentations or teleconferencing should contact Mr. Wayne Lundy by telephone at (202) 372-1379 or by e-mail at Wayne.M.Lundy@uscg.mil.

The IMO guidelines are contained in document MEPC.184(59). A copy of the IMO guidelines is available in the docket. A limited number of paper copies will be available at this meeting. Summaries of comments made, materials presented, and lists of attendees will be available on the docket at the conclusion of the meeting. To view comments and materials in the docket, go to http://www.regulations.gov at any time, enter the docket number “USCG-2010-1130” in the Search box, and click on “Go>>.”

Information on Services for Individuals With Disabilities

For information on facilities or services for individuals with disabilities or to request special assistance at the meeting, contact Mr. Wayne Lundy at (202) 372-1379 or by e-mail at Wayne.M.Lundy@uscg.mil as soon as possible.

Dated: December 23, 2010.
J.G. Lantz,
Director of Commercial Regulations and Standards.

[FR Doc. 2010-32796 Filed 12-28-10; 8:45 am]

BILLING CODE 9110-04-P